FEDERAL COMMUNICATIONS COMMISSION

47 CFR Part 73

[MB Docket No. 03-15; FCC 04-192]

Second Periodic Review of the Commission's Rules and Policies Affecting the Conversion to Digital Television

AGENCY: Federal Communications Commission.

ACTION: Final rule; announcement of effective date.

SUMMARY: The Federal Communications Commission has received Office of Management and Budget (OMB) approval for rules published at 69 FR 59500 (October 4, 2004). Therefore, the Commission announces that 47 CFR 73.1201(b)(1) and (c)(1) is effective July 1, 2005.

DATES: 47 CFR 73.1201(b)(1) and (c)(1) is effective July 1, 2005.

SUPPLEMENTARY INFORMATION: The Federal Communications Commission has received OMB approval for the station identification rule published at 69 FR 59500 (October 4, 2004). Through this document, the Commission announces that it received this approval on April 14, 2005.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Cathy Williams, Federal Communications Commission, (202) 418-2918 or via the Internet at Cathy.Williams@fcc.gov.

Federal Communications Commission.
Marlene H. Dortch,
Secretary.

[FR Doc. 05-10242 Filed 5-24-05; 8:45 am]

BILLING CODE 6712-01-P